DEPARTMENT OF ENERGY

Federal Energy Regulatory Commission

Combined Notice of Filings # 1

May 23, 2008.

Take notice that the Commission received the following electric corporate filings:

Docket Numbers: EC08-87-000.

Applicants: Entegra Power Group LLC, Gila River Power, L.P., Union Power Partners, L.P., Harbinger Capital Partners Master Fund I, Harbinger Capital Partners Special Situations.

Description: Entegra Power Group LLC et al. submits a joint application for approval under Section 203 of the Federal Power Act.

Filed Date: 05/09/2008.

Accession Number: 20080516-0116.

Comment Date: 5 p.m. Eastern Time on Friday, May 30, 2008.

Take notice that the Commission received the following electric rate filings:

Docket Numbers: ER91-195-053; EL07-69-003.

Applicants: Western Systems Power Pool, Empire District Electric Company.

Description: The Empire District Electric Co submits its compliance filing to support the continued use of the up to demand charge in the Western Systems Power Pool Agreement.

Filed Date: 04/18/2008.

Accession Number: 20080421-0057.

Comment Date: 5 p.m. Eastern Time on Friday, June 13, 2008.

Docket Numbers: ER05-1410-007; EL05-148-007.

Applicants: PJM Interconnection, L.L.C.

Description: PJM Interconnection, LLC submits filing to comply with the FERC (Commission) March 21, 2008 Order on Compliance Filing ( March 21 Order).

Filed Date: 05/20/2008.

Accession Number: 20080522-0174.

Comment Date: 5 p.m. Eastern Time on Tuesday, June 10, 2008.

Docket Numbers: ER08-917-001.

Applicants: Green Light Energy, LLC.

Description: Green Light Energy, LLC submits the Amendment for Petition for Acceptance of Initial Tariff, Waivers and Blanket Authority, FERC Electric Tariff, Original Volume 1, effective 6/9/08.

Filed Date: 05/20/2008.

Accession Number: 20080522-0175.

Comment Date: 5 p.m. Eastern Time on Tuesday, June 10, 2008.

Docket Numbers: ER08-990-000.

Applicants: South Carolina Electric & Gas Transmissi.

Description: South Carolina Electric & Gas Company Transmission Function submits a revised cover sheet for the Network Integration Transmission Service Agreement and the Network Operating Agreement etc.

Filed Date: 05/20/2008.

Accession Number: 20080522-0173.

Comment Date: 5 p.m. Eastern Time on Tuesday, June 10, 2008.

Docket Numbers: ER08-991-000.

Applicants: Westar Energy, Inc.

Description: Westar Energy, Inc et al. submits Second Revised Sheet 12 and 1 to the Wholesale Electric Service Agreement commencing 2/1/88 designated First Revised Rate Schedule FERC 174 etc.

Filed Date: 05/19/2008.

Accession Number: 20080522-0172.

Comment Date: 5 p.m. Eastern Time on Monday, June 09, 2008.

Docket Numbers: ER08-992-000.

Applicants: Westar Energy, Inc.

Description: Westar Energy Inc submits Petition for Approval of Settlement Agreement.

Filed Date: 05/19/2008.

Accession Number: 20080522-0171.

Comment Date: 5 p.m. Eastern Time on Monday, June 09, 2008.

Docket Numbers: ER08-993-000.

Applicants: Westar Energy, Inc.

Description: Westar Energy, Inc et al. submits Substitute Second Revised Sheet 8 and 1 to the Wholesale Electric Service Agreement designated as First Revised Rate Schedule FERC 173 with the City of Mulberry, Kansas.

Filed Date: 05/20/2008.

Accession Number: 20080522-0170.

Comment Date: 5 p.m. Eastern Time on Tuesday, June 10, 2008.

Docket Numbers: ER08-994-000.

Applicants: Westar Energy, Inc.

Description: Westar Energy, Inc submits Petition for Approval of Settlement Agreement with the City of Mulberry, Kansas.

Filed Date: 05/20/2008.

Accession Number: 20080522-0169.

Comment Date: 5 p.m. Eastern Time on Tuesday, June 10, 2008.

Take notice that the Commission received the following open access transmission tariff filings:

Docket Numbers: OA07-90-003.

Applicants: MidAmerican Energy Company.

Description: MidAmerican Energy Company submits revised and original tariff sheets to conform its OATT Attachment C, Methodology to Assess Available Transfer Capability, to the Order No. 890 requirements.

Filed Date: 04/21/2008.

Accession Number: 20080422-5082.

Comment Date: 5 p.m. Eastern Time on Thursday, June 12, 2008.

Docket Numbers: OA08-65-000.

Applicants: Portland General Electric Company.

Description: Order No. 890-A OATT Filing of Portland General Electric Company.

Filed Date: 03/14/2008.

Accession Number: 20080317-5028.

Comment Date: 5 p.m. Eastern Time on Monday, June 02, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-12431 Filed 6-3-08; 8:45 am]

BILLING CODE 6717-01-P